DEPARTMENT OF HEALTH AND HUMAN SERVICES

Administration on Aging

Notice; Availability of Funding Opportunity Announcement

Funding Opportunity Title/Program Name: Senior Medicare Patrol Projects.

Announcement Type: Initial.

Funding Opportunity Number: HHS-2005-AoA-Initial-SM.

Statutory Authority: The Older Americans Act, Public Law 106-501.

Catalog of Federal Domestic Assistance (CFDA) Number: 93.048, Title IV and Title II, Discretionary Projects, and the Health Insurance Portability and Accountability Act of 1996 (Pub. L. 104-191).

Dates: The deadline date for the submission of applications is May 13, 2005.

I. Funding Opportunity Description

This announcement seeks proposals for the Senior Medicare Patrol (SMP) Projects which will serve as model projects that demonstrate effective ways of utilizing retired persons as volunteer expert resources and educators in community efforts to prevent and identify health care, error, fraud and abuse in the Medicare/Medicaid programs.

A detailed description of the funding opportunity and application materials may be obtained at http://www.aoa.gov/doingbus/fundopp/fundopp.asp or http://www.grants.gov.

Award Information

1. Funding Instrument Type

Cooperative Agreement. The award is a cooperative agreement because of the substantial involvement of the Administration on Aging in the development and execution of the activities of the projects. The cooperative agreements will describe training, technical assistance and support to be provided the projects funded under this announcement.

The SMP project will form a consortium of community-based agencies to assist in planning and implementing the project, while working in close partnership with an interdisciplinary team of Federal, State, and local resources, including representatives from the Administration on Aging, the Office of Inspector General (OIG), the Centers for Medicare & Medicaid Services' Program Safeguard Contractors or Medication Fraud Information Specialists (MFIS), and State Quality Improvement Organizations.

The SMP project will recruit, train, and place retired individuals in a variety of communities and settings to provide public education and outreach to older persons and their families, including an emphasis on reaching vulnerable, isolated, and limited English-speaking beneficiaries.

The Administration on Aging will define project performance criteria and expectations, and will monitor, evaluate and support the projects' efforts in achieving performance goals. The project will participate in a national assessment of the program utilizing the performance measurement instrument developed by the HHS Office of Inspector General (OIG), including reporting outputs and out comes to the OIG semiannually.

The SMP project and Administration on Aging will work cooperatively to clarify the issues to be addressed by the project and develop the work plan for each year of the project. Within 45 days of the award and 45 days of each continuation award, the project will agree upon and adhere to a work plan that details expectations for major activities, products, and reports during the current budget period. The work plan will include timelines, staff assignments, work locations, and areas that require Administration on Aging consultation, review, and/or prior approval. Either the Administration on Aging or the project can propose a revision of the final work plan at any time. Any changes in the final work plan will require agreement of both parties.

The Administration on Aging will assist the SMP project leadership in understanding the policy concerns and/or priorities of the Assistant Secretary for Aging and the Department of Health and Human Services by conducting periodic briefings and by carrying out ongoing consultations.

The Administration on Aging has established the National Consumer Protection Technical Resource Center to enhance the effectiveness of the Senior Medicare Patrol projects' efforts to meet AoA and SMP program strategic objectives, by providing informational resources, technical assistance and support to the projects.

The Administration on Aging will also share information with the project about other Federally sponsored projects and activities carried out under this Agreement.

The Administration on Aging will be provided a period of three weeks, prior to their release and/or publication, to review and comment upon all materials, reports, documents, etc. produced by the project with funds provided through this award. After the three weeks review and comment period, the project is free to make such materials public, displaying the Administration on Aging disclaimer.

2. Anticipated Total Priority Area Funding per Budget Period

Option 1—AoA intends to make available, under this program announcement, grant awards for up to thirty-two (32) cooperative agreements at a federal share of between $125,000 and $180,000 per year for a project period of three (3) years.

Option 2—AoA intends to fund up to two 1-year capacity-building grants at a federal share of between $40,000 and $75,000 for a period of one year.

II. Eligibility Criteria and Other Requirements

1. Eligible Applicants

Option 1—Eligibility for grant awards is limited to public state and local agencies, federally recognized tribes, or nonprofit agencies, organizations, and institutions, including faith-based organizations, in the following 28 States and jurisdictions: Alabama, Alaska, Arizona, Arkansas, Colorado, Connecticut, Delaware, the District of Columbia, Florida, Georgia, Idaho, Kentucky, Maine, Massachusetts, Michigan, Montana, Nevada, New Jersey, New Mexico, Ohio, Oklahoma, Oregon, Puerto Rico, Tennessee, Texas, Virginia, Washington, and West Virginia.

Option 2—Eligible entities from U.S. territories are extended the opportunity to apply for one-year capacity-building grants. Eligibility is limited to public State and local agencies, federally recognized tribes, or nonprofit agencies, organizations, and institutions, including faith-based organizations from within these territories.

The competition is limited to the 28 states and jurisdictions specified under Option 1, as well as the U.S. territories (per Option 2). Competition under Option 1 is limited to those specified states and jurisdictions because the current three-year grant period for Senior Medicare Patrol projects within these areas will end on June 30, 2005. The competition is limited to U.S. territories under Option 2 in order to offer an opportunity to expand the program to the territories on a first-time basis. The AoA is currently funding SMP projects in the remaining 24 states not specified under Options 1 and 2. In order to ensure the program reaches Medicare beneficiaries in the maximum number of states, given available funding, applicants from those states currently served by SMP projects are ineligible to apply.

Grantees under both Option 1 and Option 2 will carry out cooperative agreement awards to train retired persons to serve in their communities as volunteer expert resources and educators in preventing and identifying health care error, fraud, and abuse.

2. Cost Sharing or Matching

Grantees are required to provide at least 25 percent of the total program costs from non-federal cash or in-kind resources in order to be considered for the award. Applicants from the U.S. territories are exempt from the matching requirement.

3. DUNS Number

All grant applicants must obtain a D-U-N-S number from Dun and Bradstreet. It is a nine-digit identification number, which provides unique identifiers of single business entities. The D-U-N-S number is free and easy to obtain from http://www.dnb.com/US/duns_update/.

4. Intergovernmental Review

Executive Order 12372, Intergovernmental Review of Federal Programs, is not applicable to these grant applications.

III. Application and Submission Information

1. Address To Request Application Package

Application kits are available by writing to the U.S. Department of Health and Human Services, Administration on Aging, Attn.: Doris Summey, Office of Consumer Choice and Protection, Washington, DC 20201, by calling 202/357-3533, or on-line at http://www.grants.gov.

Address for Application Submission

Applications may be mailed to the U.S. Department of Health and Human Services, Administration on Aging, Office of Grants Management, Washington, DC 20201, attn: Margaret Tolson (HHS-2005-AoA-Initial-SM).

Applications may be delivered (in person, via messenger) to the U.S. Department of Health and Human Services, Administration on Aging, Office of Grants Management, One Massachusetts Avenue, NW., Room 4604, Washington, DC 20001, attn: Margaret Tolson (HHS-2005-AoA-Initial-SM).

If you elect to mail or hand deliver your application you must submit one original and two copies of the application; an acknowledgement card will be mailed to applicants. Instructions for electronic mailing of grant applications are available at http://www.grants.gov/.

2. Submission Dates and Times

To receive consideration, applications must be received by the deadline listed in the DATES section of this Notice.

IV. Responsiveness Criteria

Each application submitted will be screened to determine whether it was received by the closing date and time.

Applications received by the closing date and time will be screened for completeness and conformity with the requirements outlined in Sections II and III of this Notice and the Program Announcement. Only complete applications that meet these requirements will be reviewed and evaluated competitively.

V. Application Review Information

Eligible applications in response to this announcement will be reviewed according to the following evaluation criteria: Purpose and Need for Assistance (20 points); Approach, Work Plan and Activities (30 points); Project Outcomes, Evaluation and Dissemination (30 points); and Level of Effort (20 points).

VI. Agency Contacts

Direct inquiries regarding programmatic issues to U.S. Department of Health and Human Services, Administration on Aging, Attn.: Doris Summey, Office of Consumer Choice and Protection, Washington, DC 20201, telephone: (202) 357-3533.

Dated: March 21, 2005.
Josefina G. Carbonell,
Assistant Secretary for Aging.

[FR Doc. 05-5808 Filed 3-23-05; 8:45 am]

BILLING CODE 4154-01-P